DEPARTMENT OF STATE

[Delegation of Authority No. 247]

Delegation of Responsibilities Under the Government Information Security Reform Act From the Deputy Secretary of State to the Chief Information Officer

By virtue of the authority vested in me by Delegation of Authority 245 dated 4/23/01, and in accordance with section 3534(a)(3) of the Government Information Security Reform Act (44 U.S.C. 3531 et seq.) (the “Act”), I hereby delegate to the Chief Information Officer the authority to administer all functions under Subchapter II of Chapter 35 of title 44, United States Code, including—

(A) Designating a senior agency information security official who shall report to the Chief Information Officer;

(B) Developing and maintaining an agencywide information security program as required by the Act;

(C) Ensuring that the agency effectively implements and maintains information security policies, procedures and control techniques;

(D) Training and overseeing personnel with significant responsibilities for information security with respect to such responsibilities ; and

(E) Assisting senior agency officials concerning their responsibilities pursuant to the Act.

Notwithstanding the provisions of this delegation of authority, the Secretary of State, the Deputy Secretary of State, or the Under Secretary for Management may at any time exercise any function hereby delegated.

The functions hereby delegated to the Chief Information Officer may be redelegated in consultation with the Under Secretary for Management.

This delegation of authority shall be published in the Federal Register.

Dated: August 20, 2001.
Richard L. Armitage,
Deputy Secretary of State, Department of State.

[FR Doc. 01-22419 Filed 9-5-01; 8:45 am]

BILLING CODE 4710-10-P